DEPARTMENT OF ENERGY

Federal Energy Regulatory Commission

Combined Notice of Filings

Take notice that the Commission has received the following Natural Gas Pipeline Rate and Refund Report filings:

Docket Numbers: RP21-467-001.

Applicants: Alliance Pipeline L.P.

Description: Compliance filing Future Sales of Capacity Compliance Filing to be effective 3/11/2021.

Filed Date: 3/25/21.

Accession Number: 20210325-5044.

Comments Due: 5 p.m. ET 4/6/21.

Docket Numbers: RP21-647-000.

Applicants: Northern Natural Gas Company.

Description: § 4(d) Rate Filing: 20210325 Miscellaneous Filing to be effective 4/25/2021.

Filed Date: 3/25/21.

Accession Number: 20210325-5078.

Comments Due: 5 p.m. ET 4/6/21.

Docket Numbers: RP21-648-000.

Applicants: Texas Eastern Transmission, LP.

Description: Compliance filing TETLP OFO March 2021 Penalty Disbursement Report.

Filed Date: 3/25/21.

Accession Number: 20210325-5085.

Comments Due: 5 p.m. ET 4/6/21.

Docket Numbers: RP21-649-000.

Applicants: Trailblazer Pipeline Company LLC.

Description: Compliance filing TPC 2021-03-25 2020 Annual Purchases and Sales Report.

Filed Date: 3/25/21.

Accession Number: 20210325-5101.

Comments Due: 5 p.m. ET 4/6/21.

Docket Numbers: RP21-650-000.

Applicants: Rockies Express Pipeline LLC.

Description: Compliance filing REX 2021-03-25 2020 Annual Purchases and Sales Report.

Filed Date: 3/25/21.

Accession Number: 20210325-5102.

Comments Due: 5 p.m. ET 4/6/21.

Docket Numbers: RP21-651-000.

Applicants: Natural Gas Pipeline Company of America.

Description: Compliance filing Penalty Revenue Crediting Report from July through December 2020.

Filed Date: 3/25/21.

Accession Number: 20210325-5123.

Comments Due: 5 p.m. ET 4/6/21.

Docket Numbers: RP21-652-000.

Applicants: Horizon Pipeline Company, L.L.C.

Description: Compliance filing Horizon Penalty Revenue Crediting Report for Year 2020.

Filed Date: 3/25/21.

Accession Number: 20210325-5125.

Comments Due: 5 p.m. ET 4/6/21.

Docket Numbers: RP21-653-000.

Applicants: Ovintiv Marketing Inc., Kiwetinohk Marketing US Corp.

Description: Joint Petition For Temporary Waiver of Capacity Release Regulations, et al. of Ovintiv Marketing Inc., et al.

Filed Date: 3/25/21.

Accession Number: 20210325-5128.

Comments Due: 5 p.m. ET 4/6/21.

Docket Numbers: RP21-654-000.

Applicants: Leaf River Energy Center LLC.

Description: § 4(d) Rate Filing: Leaf River Non-conforming agreement filing to be effective 4/1/2021.

Filed Date: 3/25/21.

Accession Number: 20210325-5143.

Comments Due: 5 p.m. ET 4/6/21.

Docket Numbers: RP21-655-000.

Applicants: Enable Gas Transmission, LLC.

Description: § 4(d) Rate Filing: Fuel Tracker Filing—Effective May 1 2021 to be effective 5/1/2021.

Filed Date: 3/25/21.

Accession Number: 20210325-5146.

Comments Due: 5 p.m. ET 4/6/21.

Docket Numbers: RP21-656-000.

Applicants: Gulf South Pipeline Company, LLC.

Description: § 4(d) Rate Filing: Amendment to NC Neg Rate Agmt (Entergy 48769) to be effective 4/1/2021.

Filed Date: 3/26/21.

Accession Number: 20210326-5011.

Comments Due: 5 p.m. ET 4/7/21.

Docket Numbers: RP21-657-000.

Applicants: Rover Pipeline LLC.

Description: Compliance filing Flow Through of Cash-Out and Penalty Revenues filed on 3-26-21.

Filed Date: 3/26/21.

Accession Number: 20210326-5010.

Comments Due: 5 p.m. ET 4/7/21.

Docket Numbers: RP21-658-000.

Applicants: Fortigen Geneva LLC,NE Nitro Geneva LLC.

Description: Joint Petition For Temporary Waiver of Capacity Release Regulations, et al. of Fortigen Geneva LLC, et al.

Filed Date: 3/26/21.

Accession Number: 20210326-5193.

Comments Due: 5 p.m. ET 4/2/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 29, 2021.
Nathaniel J. Davis, Sr.,
Deputy Secretary.

[FR Doc. 2021-06818 Filed 4-1-21; 8:45 am]

BILLING CODE 6717-01-P